DEPARTMENT OF COMMERCE

National Oceanic and Atmospheric Administration

[I.D. 011906A]

Endangered Species; Permit Nos. 1209, 1261, and 1351

AGENCY: National Marine Fisheries Service (NMFS), National Oceanic and Atmospheric Administration (NOAA), Commerce.

ACTION: Notice; issuance of permit modifications.

SUMMARY: Notice is hereby given that the following scientific research permits have been modified: Cypress Gardens (Dwight Williams, Principal Investigator), 3030 Cypress Gardens Road, Moncks Corner, SC 29461 (Permit No. 1209); U.S. Fish and Wildlife Service, Warm Springs Regional Fisheries Center (Vincent Mudrak, Principal Investigator), 5308 Spring Street, Warm Springs, GA 31830 (Permit No. 1261); Dr. Frank Chapman (Principal Investigator), Department of Fisheries and Aquatic Sciences, University of Florida, 7922 NW 71st Street, Gainesville, FL 32653 (Permit No. 1351).

ADDRESSES: The modifications and related documents are available for review upon written request or by appointment in the following office(s):

Permits, Conservation and Education Division, Office of Protected Resources, NMFS, 1315 East-West Highway, Room 13705, Silver Spring, MD 20910; phone (301)713-2289, fax (301)427-2521; and

Southeast Region, NMFS, 263 13th Avenue South, St. Petersburg, FL 33701; phone (727)824-5312; fax (727)824-5309.

FOR FURTHER INFORMATION CONTACT: Shane Guan and Jennifer Skidmore (301)713-2289.

SUPPLEMENTARY INFORMATION: The requested modifications have been granted under the authority of the Endangered Species Act of 1973, as amended (ESA; 16 U.S.C. 1531 et seq.) and the provisions of § 222.306 of the regulations governing the taking, importing, and exporting of endangered and threatened fish and wildlife (50 CFR 222-226).

File No. 1209: Cypress Gardens is authorized to maintain no more than eight (8) juvenile shortnose sturgeon in captivity for education purposes within its facility. This modification will extend the permit through January 31, 2007.

File No. 1261: The Warm Springs Regional Fisheries Center of the U.S. Fish and Wildlife Service is authorized to maintain captively bred shortnose sturgeon for scientific research at the Warm Springs, Bears Bluff and Orangeburg Hatcheries. Research Activities include feeding studies, propagation studies and evaluation studies as identified in the recovery plan for shortnose sturgeon. This modification will extend the permit through January 31, 2007.

File No. 1351: Dr. Frank Chapman of the Department of Fisheries and Aquatic Sciences, University of Florida, is authorized to conduct laboratory investigations and experimental culture to identify the physical, chemical, and biological parameters necessary for optimal survival and growth of shortnose sturgeon. The research is believe to complement the knowledge base of sturgeon species and assist the National Fish Hatcheries to optimally maintain and reproduce shortnose sturgeon stocks. This modification will extend the permit through January 31, 2007.

Issuance of thess modification, as required by the ESA was based on a finding that such permits: (1) Were applied for in good faith; (2) will not operate to the disadvantage of any endangered or threatened species; and (3) are consistent with the purposes and policies set forth in section 2 of the ESA.

Dated: January 25, 2006.
Carrie W. Hubard,
Acting Chief, Permits, Conservation and Education Division, Office of Protected Resources, National Marine Fisheries Service.

[FR Doc. E6-1200 Filed 1-30-06; 8:45 am]

BILLING CODE 3510-22-S